DEPARTMENT OF TRANSPORTATION

Federal Aviation Administration

14 CFR Part 39

[Docket No. 2003-CE-56-AD; Amendment 39-13815; AD 2004-20-10]

RIN 2120-AA64

Airworthiness Directives; Valentin GmbH & Co. Taifun 17E Sailplanes

AGENCY: Federal Aviation Administration (FAA), DOT.

ACTION: Final rule.

SUMMARY: The FAA adopts a new airworthiness directive (AD) for all Valentin GmbH & Co. Taifun 17E sailplanes. This AD requires you to do an operational check of the front wing-locking mechanism left and right, inspect stop key movement, inspect wing and fuselage side root ribs, inspect the wing side shear force fittings, and take any corrective actions that may be required. This AD is the result of mandatory continuing airworthiness information (MCAI) issued by the airworthiness authority for Germany. We are issuing this AD to detect and correct malfunction of wing-locking mechanism, which could result in failure of the wing-locking mechanism disengagement. This failure could lead to unlocking of wing in flight and consequent loss of control of the sailplane.

DATES: This AD becomes effective on November 24, 2004.

As of November 24, 2004, the Director of the Federal Register approved the incorporation by reference of certain publications listed in the regulation.

ADDRESSES: You may get the service information identified in this AD from KORFF + CO.KG, Dieselstrasse 5, D-63128 Dietzenbach, Germany.

You may view the AD docket at FAA, Central Region, Office of the Regional Counsel, Attention: Rules Docket No. 2003-CE-56-AD, 901 Locust, Room 506, Kansas City, Missouri 64106. Office hours are 8 a.m. to 4 p.m., Monday through Friday, except Federal holidays.

FOR FURTHER INFORMATION CONTACT: Gregory M. Davison, Aerospace Engineer, Small Airplane Directorate, ACE-112, 901 Locust, Room 301, Kansas City, Missouri 64106; telephone: 816-329-4130; facsimile: 816-329-4090.

SUPPLEMENTARY INFORMATION:

Discussion

What events have caused this AD? The Luftfahrt-Bundesamt (LBA), which is the airworthiness authority for Germany, recently notified FAA that an unsafe condition may exist on all Valentin GmbH & Co. Taifun 17E sailplanes. The LBA reports that during an investigation, an incorrect locked shear force fitting was found.

What is the potential impact if FAA took no action? Malfunction of wing-locking mechanism could result in failure of the wing attachment assembly. This failure could lead to unlocking of wing in flight and consequent loss of control of the sailplane.

Has FAA taken any action to this point? We issued a proposal to amend part 39 of the Federal Aviation Regulations (14 CFR part 39) to include an AD that would apply to all Valentin GmbH & Co. Taifun 17E sailplanes. This proposal was published in the Federal Register as a notice of proposed rulemaking (NPRM) on April 22, 2004 (69 FR 21771). The NPRM proposed to require you to do an operational check of the front wing-locking mechanism left and right, inspect stop key movement, inspect wing and fuselage side root ribs, inspect the wing side shear force fittings, and take any corrective actions that may be required.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many sailplanes does this AD impact? We estimate that this AD affects 25 sailplanes in the U.S. registry.

What is the cost impact of this AD on owners/operators of the affected sailplanes? We estimate the following costs to accomplish the inspections:

Labor cost | Parts cost | Total cost per sailplane | Total cost on U.S. operators
2 work hours × $65 per hour = $130 | No parts needed for inspection | $130 | $3,250

We estimate the following costs to accomplish replacement of the stop key F1-1300 that will be required based on the results of the inspections. We have no way of determining the number of sailplanes that may need the stop key F1-1300 replaced or the number of sailplanes that may need additional repair because of abrasion. We also do not know the cost that will be associated with any abrasion repair:

Labor cost | Parts cost | Total cost per sailplane
3 workhours × $65 per hour = $195 | $16 each × 2 (2 are required) = $32 | $227

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-56-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-20-10 Valentin GmbH & Co.: Amendment 39-13815; Docket No. 2003-CE-56-AD.

When Does This AD Become Effective?

(a) This AD becomes effective on November 24, 2004.

What Other ADs Are Affected by This Action?

(b) None.

What Sailplanes Are Affected by This AD?

(c) This AD affects the following sailplane models and serial numbers that are certificated in any category: Valentin GmbH & Co. Taifun 17E, all serial numbers are affected except those where Service Bulletin 23-818 has been complied with.

What Is the Unsafe Condition Presented in This AD?

(d) This AD is the result of an incorrectly locked shear force fitting, which may have caused wing-locking mechanism disengagement. The actions specified in this AD are intended to detect and correct malfunction of the wing-locking mechanism, which could result in failure of the wing attachment assembly. This failure could lead to unlocking of wing in flight and subsequent loss of control of the sailplane.

What Must I Do To Address This Problem?

(e) To address this problem, you must do the following:

Actions | Compliance | Procedures
(1) Perform the following actions with the motor glider rigged. (i) An operational check of the front wing locking mechanism left and right for damage, deformation, and smooth operation over full travel range. (ii) A visual inspection through the operation hole on the bottom side of the wings, ensure the bolt (item 3 of drawing F1-1340) is in the fully locked front position. Confirm a fully locked position by withdrawal of the signal pin (Item 15 and Item 11 of drawing F1-1340) into the wing's upper surface and ensure the pin is level with that surface. While in this full front stop position, measure the potential movement of the bolt. If residual movement of 2mm or greater exists, replace the stop key (Item 25 of drawing F1-1340). | Inspect within 25 hours time-in-service (TIS) after November 24, 2004 (the effective date of this AD). Repetitively inspect every 25 hours TIS thereafter | Inspect following the Korff + CO.KG Service Bulletin SB-KOCO 03/818, dated December 12, 2002 (German LBA approved December 20, 2002)
(2) Perform the following actions with the motor glider derigged (i) An operational check of the front wing locking mechanism left and right for damage, deformation, and smooth operation over full travel range. (ii) A visual inspection of the motor glider for stop key movement. You should not be able to move the stop key by hand more than 2mm backwards in the full locked front position. | Inspect within 25 hours TIS after November 24, 2004 (the effective date of this AD). Repetitively inspect every 25 hours TIS thereafter | Inspect following the Korff + CO.KG Service Bulletin SB-KOCO 03/818, dated December 12, 2002 (German LBA approved December 20, 2002)
(3) If deficiencies are found during the inspections required in paragraphs (e)(1) and (e)(2), correct, repair, or replace the defective parts | Do corrective actions prior to further flight | Correct, repair, or replace defective parts following the Korff + CO.KG Service Bulletin SB-KOCO 03/818, dated December 12, 2002 (German LBA approved December 20, 2002)
(4) Perform the following inspections, and if any of the following conditions are found, contact the manufacturer at the address specified in paragraph (g) of this AD for FAA-approved corrective action and perform the corrective action. You must send a copy of correspondence you send to the manufacturer to the FAA at the address in paragraph (f) (i) Inspect the wing side shear force fittings for abrasion, deformation, and correct screwing to the root rib. (ii) Inspect the wing and fuselage side root ribs for damage (delamination) and around all fittings (shear force fittings, wing connection studs, wing connection bushings, connection to the telescopic rods, rear center studs and bushings). Inspect for defective bonding to the shells as well as defective connections to the spar or the wing spar box. | Inspect within 25 hours TIS after November 24, 2004 (the effective date of this AD). Repetitively inspect every 25 hours TIS thereafter. Perform corrective action prior to further flight | Inspect following the Korff + CO.KG Service Bulletin SB-KOCO 03/818, dated December 12, 2002 (German LBA approved December 20, 2002)
(5) When corrective action or maintenance is done, do an operational check of the motor glider in the rigged and derigged configuration | After corrective action or maintenance is done, you must do the operational check prior to further flight | Do the operational check following the Korff + CO.KG Service Bulletin SB-KOCO 03/818, dated December 12, 2002 (German LBA approved December 20, 2002)

Note: We recommend that you make the “Flight Manual” and “Instructions for Continued Airworthiness” changes that are listed under Actions: 5. of Korff + CO.KG Service Bulletin SB-KOCO 03/818, dated December 12, 2002 (German LBA approved December 20, 2002).

May I Request an Alternative Method of Compliance?

(f) You may request a different method of compliance or a different compliance time for this AD by following the procedures in 14 CFR 39.19. Unless FAA authorizes otherwise, send your request to your principal inspector. The principal inspector may add comments and will send your request to the Manager, Standards Office, FAA, Small Airplane Directorate, 901 Locust, Room 301, Kansas City, Missouri 64106. For information on any already approved alternative methods of compliance, contact Gregory M. Davison, Aerospace Engineer, Small Airplane Directorate, ACE-112, 901 Locust, Room 301, Kansas City, Missouri 64106; telephone: 816-329-4130; facsimile: 816-329-4090.

Does This AD Incorporate Any Material by Reference?

(g) You must do the actions required by this AD following the instructions in Korff + CO.KG Service Bulletin SB-KOCO 03/818, dated December 12, 2002 (German LBA approved December 20, 2002). The Director of the Federal Register approved the incorporation by reference of this service bulletin in accordance with 5 U.S.C. 552(a) and 1 CFR part 51. You may get a copy from KORFF + CO.KG, Dieselstrasse 5, D-63128 Dietzenbach, Germany. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Is There Other Information That Relates to This Subject?

(h) LBA airworthiness directive 2003-051, dated January 29, 2003; and

Korff + CO.KG Service Bulletin SB-KOCO 03/818, dated December 20, 2002, also address the subject of this AD.

Issued in Kansas City, Missouri, on September 29, 2004.
Dorenda D. Baker,
Manager, Small Airplane Directorate, Aircraft Certification Service.

[FR Doc. 04-22715 Filed 10-13-04; 8:45 am]

BILLING CODE 4910-13-P